DEPARTMENT OF JUSTICE

Notice of Lodging of Consent Decree Pursuant to the Comprehensive Environmental Response, Compensation, and Liability Act

In accordance with Departmental policy and 28 CFR 50.7, the Department of Justice gives notice that a proposed consent decree with Appleton Papers Inc. and NCR Corporation in the case captioned United States and the State of Wisconsin v. Appleton Papers Inc. and NCR Corporation, Civil Action No. 01-C-0816 (E.D. Wis.) was lodged with the United States District Court for the Eastern District of Wisconsin on August 14, 2001. The complaint filed in the case by the United States and the State of Wisconsin (the “Plaintiffs”) alleges that Appleton Papers Inc. and NCR Corporation (the “Defendants”) are parties liable for response costs and injunctive relief associated with the release and threatened release of hazardous substances from facilities at or near the Fox River/Green Bay Site in northeastern Wisconsin (the “Site”), pursuant to the Comprehensive Environmental Response, Compensation, and Liability Act, 42 U.S.C. 9601 et seq.

The proposed consent decree sets forth the terms of a proposed interim settlement between the Plaintiffs and the Defendants. Under the interim settlement, the Defendants would agree to pay up to $10 million each year for four years ($40 million in total) to fund cleanup-related response action projects and natural resource damage restoration projects to be selected by the responsible governmental agencies. The U.S. Environmental Protection Agency and the Wisconsin Department of Natural Resources would jointly select the cleanup projects and the Federal, State, and Tribal natural resources trustees would jointly select the restoration projects. The funding for cleanup projects would allow an early start on some facets of the cleanup at the Site. The restoration projects would be designed to restore or protect natural resources at the Site, or natural resources equivalent to those injured at the Site. In addition to the $40 million to be paid for cleanup and restoration projects, the Defendants would pay $1.5 million toward natural resource damage assessment costs incurred by the U.S. Department of the Interior.

For a period of thirty (30) days from the date of this publication, the Department of Justice will receive comments relating to the proposed consent decree. Comments should be addressed to the Assistant Attorney General, Environment and Natural Resources Division, United States Department of Justice, P.O. Box 7611, Washington, DC 20044-7611, and should refer to United States and the State of Wisconsin v. Appleton Papers Inc. and NCR Corporation, Civil Action No. 01-C-0816 (E.D. Wis.), and DOJ Reference Numbers 90-11-2-1045 and 90-11-2-1045Z.

An electronic copy of the proposed consent decree is posted on the U.S. Environmental Protection Agency's web site at www.epa.gov/region5/foxriver and on the Wisconsin Department of Natural Resource's web site at www.dnr.state.wi.us/org/water/wm/lowerfox. A signed copy of the proposed consent decree may be examined at: (1) The Office of the United States Attorney for the Eastern District of Wisconsin, U.S. Courthouse and Federal Building—Room 530, 517 E. Wisconsin Avenue, Milwaukee, Wisconsin 53202 (contact Matthew Richmond (414-297-1700)); and (2) the U.S. Environmental Protection Agency (Region 5), 77 West Jackson Boulevard, Chicago, Illinois 60604 (contact Peter Felitti (312-886-5114)). Copies of the proposed consent decree may also be obtained by mail from the Department of Justice Consent Decree Library, P.O. Box 7611, Washington, DC 20044-7611. In requesting copies, please refer to the above-referenced case name and DOJ Reference Numbers, and enclose a check made payable to the Consent Decree Library for $14.50 (58 pages at 25 cents per page reproduction cost).

Bruce S. Gelber,
Chief, Environmental Enforcement Section, Environment and Natural Resources Division.

[FR Doc. 01-21325 Filed 8-22-01; 8:45 am]

BILLING CODE 4410-15-M